DEPARTMENT OF ENERGY

Federal Energy Regulatory Commission

Combined Notice of Filings

Take notice that the Commission has received the following Natural Gas Pipeline Rate and Refund Report filings:

Docket Number: PR21-36-000.

Applicants: ONEOK WesTex Transmission, L.L.C.

Description: Tariff filing per 284.123(b)(1)+(g): Certification Pursuant to 18 CFR Sec. 284.123(g)(9)(ii) and Revised SOC to be effective 2/13/2021.

Filed Date: 3/1/2021.

Accession Number: 202103015181.

Comments Due: 5 p.m. ET 3/22/2021.

284.123(g) Protests Due: 5 p.m. ET 4/30/2021.

Docket Numbers: RP21-601-000.

Applicants: Natural Gas Pipeline Company of America.

Description: § 4(d) Rate Filing: Negotiated Rate Agreements Filing—Castleton Commodities Merchant to be effective 4/1/2021.

Filed Date: 3/3/21.

Accession Number: 20210303-5000.

Comments Due: 5 p.m. ET 3/15/21.

Docket Numbers: RP21-602-000.

Applicants: Natural Gas Pipeline Company of America.

Description: § 4(d) Rate Filing: Negotiated Rate Agreement Filing—Sequent Energy to be effective 4/1/2021.

Filed Date: 3/3/21.

Accession Number: 20210303-5001.

Comments Due: 5 p.m. ET 3/15/21.

Docket Numbers: RP21-603-000.

Applicants: Natural Gas Pipeline Company of America.

Description: § 4(d) Rate Filing: Negotiated Rate Agreement Filing—Shell Energy to be effective 4/1/2021.

Filed Date: 3/3/21.

Accession Number: 20210303-5002.

Comments Due: 5 p.m. ET 3/15/21.

Docket Numbers: RP21-441-002.

Applicants: Florida Gas Transmission Company, LLC.

Description: Compliance filing Compliance with RP21-441-000 Order (FTS-3 Rates) to be effective 3/1/2021.

Filed Date: 3/4/21.

Accession Number: 20210304-5172.

Comments Due: 5 p.m. ET 3/16/21.

Docket Numbers: RP21-516-001.

Applicants: Sabine Pipe Line LLC.

Description: Tariff Amendment: Amendment to 2003 to be effective 4/1/2021.

Filed Date: 3/4/21.

Accession Number: 20210304-5177.

Comments Due: 5 p.m. ET 3/16/21.

Docket Numbers: RP21-586-001.

Applicants: Florida Gas Transmission Company, LLC.

Description: Tariff Amendment: Amended Fuel Filing to be effective 4/1/2021.

Filed Date: 3/4/21.

Accession Number: 20210304-5173.

Comments Due: 5 p.m. ET 3/15/21.

Docket Numbers: RP21-604-000.

Applicants: Bear Creek Storage Company, L.L.C.

Description: Compliance filing Annual Report on Operational Transactions 2021.

Filed Date: 3/4/21.

Accession Number: 20210304-5023.

Comments Due: 5 p.m. ET 3/16/21.

Docket Numbers: RP21-605-000.

Applicants: Gulf South Pipeline Company, LLC.

Description: § 4(d) Rate Filing: Filing to Incorporate Approved Changes (RP21-387, RP21-388, and RP21-468) to be effective 3/12/2021.

Filed Date: 3/4/21.

Accession Number: 20210304-5098.

Comments Due: 5 p.m. ET 3/16/21.

Docket Numbers: RP21-606-000.

Applicants: Rockies Express Pipeline LLC.

Description: § 4(d) Rate Filing: REX 2021-03-04 Negotiated Rate (RP21-414) Amendment Revisions to be effective 3/5/2021.

Filed Date: 3/4/21.

Accession Number: 20210304-5102.

Comments Due: 5 p.m. ET 3/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2021.
Nathaniel J. Davis, Sr.,
Deputy Secretary.

[FR Doc. 2021-05278 Filed 3-12-21; 8:45 am]

BILLING CODE 6717-01-P